DEPARTMENT OF JUSTICE

Notice of Lodging of Second Amendment to a Consent Decree Under the Clean Air Act

Notice is hereby given that a proposed Second Amendment (Second Amendment) to the Consent Decree previously entered in United States v. Tampa Electric Co., Civil Action No. 99-2524-T-23F, was lodged with the United States District Court for Middle District of Florida.

In this action the United States alleged that Tampa Electric failed to comply with the requirements of the Clean Air Act at two coal-fired electric generating plants, known as Big Bend and Gannon Stations. These violations allegedly arose from the company's failing to seek permits prior to making major modifications to parts of these facilities and by failing to install appropriate pollution control devices to reduce emissions of air pollutants from those facilities. Those two stations are located in Hillsborough County, Florida, near the City of Tampa. (Gannon Station also is now known as Bayside Station.)

The civil action was resolved in October 2000, through a Consent Decree entered by the District Court; that Decree was amended by consent of the parties in 2001; that amendment also was entered as an order of the District Court.

The Second Amendment, proposed here, would make a number of adjustments to the extant Consent Decree and would resolve some disputes between the parties; in sum, the Second Amendment would: (1) Adopt a method of measuring certain emissions of oxides of nitrogen—an air pollutant—more in line with the method used for measuring that pollutant in subsequent consent decrees which the United States entered into with owners and operators of other coal-fired electric generating units; (2) resolve a dispute between the parties involving operation of continuous emissions monitors for the pollutant known as particulate matter; (3) set for certain units the emission rate for oxides of nitrogen, within the range of rates established for those units under the original Decree; and (4) explain further the treatment given under Decree to certain allowances that may relate to the emissions of oxides of nitrogen.

The Department of Justice will receive for a period of thirty (30) days from the date of this publication comments relating to the Second Amendment. Comments should be addressed to the Assistant Attorney General, Environment and Natural Resources Division, and either e-mailed to pubcomment-ees.enrd@usdoj.gov or mailed to P.O. Box 7611, U.S. Department of Justice, Washington, DC 20044-7611 and should refer to United States v. Tampa Electric Co., D.J. Ref. 90-5-2-1-06932.

The Second Amendment may be examined at the Office of the United States Attorney, Middle District of Florida, 400 North Tampa Street, Suite 3200, Tampa, Florida 33602, and at U.S. EPA Region 4, Office of Regional Counsel, 61 Forsyth Street, SW., Atlanta, Georgia 30303. During the public comment period, the Second Amendment may also be examined on the following Department of Justice Web site, http://www.usdoj.gov/enrd/Consent_Decrees.html. A copy of the Second Amendment may also be obtained by mail from the Consent Decree Library, P.O. Box 7611, U.S. Department of Justice, Washington, DC 20044-7611 or by faxing or e-mailing a request to Tonia Fleetwood (tonia.fleetwood@usdoj.gov), facsimile No. (202) 514-0097, telephone confirmation number (202) 514-1547. In requesting a copy from the Consent Decree Library, please enclose a check in the amount of $3.75 (25 cents per page reproduction cost) payable to the U.S. Treasury or, if by e-mail or facsimile, forward a check in that amount to the Consent Decree Library at the stated address.

Thomas A. Mariani, Jr.,
Assistant Chief, Environmental Enforcement Section, Environment and Natural Resources Division.

[FR Doc. E8-8908 Filed 4-23-08; 8:45 am]

BILLING CODE 4410-15-P